DEPARTMENT OF AGRICULTURE

Forest Service

Coconino and Tonto National Forests; Arizona; Fossil Creek Wild and Scenic River Comprehensive River Management Plan

AGENCY: Forest Service, USDA.

ACTION: Notice of opportunity to object to the Fossil Creek Wild and Scenic River Comprehensive River Management Plan, Forest Plan Amendments, Final Environmental Impact Statement and Draft Record of Decision.

SUMMARY: The Coconino and Tonto National Forests, located in Arizona, have prepared a Comprehensive River Management Plan (CRMP) for the Fossil Creek Wild and Scenic River. Significant programmatic forest plan amendments to the Coconino and Tonto National Forests land management plans, to incorporate management direction from the CRMP have also been prepared for the Fossil Creek Wild and Scenic River. Because the project includes two separate decisions, this notice initiates two separate but concurrent pre-decisional objection filing periods. Objections to the proposed CRMP must be filed within 45 days of the publication date of this notice and objections to the proposed amendments to the land management plans must be filed withn 60 days of the publication date of this notice. The accompanying Final Environmental Impact Statement and draft Record of Decision describe the actions and analyze the effects of site specific activities associated with the CRMP and the forest plan amendments.

DATES: The Forest Plan Amendments, CRMP, FEIS, Draft ROD, and other project related documents will be available on the project web page: https://www.fs.usda.gov/project/?project=27457 starting December 4, 2020.

A legal notice of the initiation of the 60-day and 45-day objection periods is also being published in the Arizona Daily Sun and the Arizona Capitol Times and will provide additional clarity and specific objection requirements found in the 36 CFR 218 and 36 CFR 219 regulations (https://www.ecfr.gov/cgi-bin/text-idx?SID=a45353900f749741bde9364d9d74dd04&mc=true&node=pt36.2.218&rgn=div5 and https://www.ecfr.gov/cgi-bin/text-idx?SID=a45353900f749741bde9364d9d74dd04&mc=true&node=pt36.2.219&rgn=div5). The date the legal notice is published in the Arizona Daily Sun is the exclusive means for calculating the time to file an objection. Please reference regulatory requirements for filing an objection in the above links. A copy of these legal notices will be posted on the website described above.

ADDRESSES: Objections may be submitted to Sandra Watts, Acting Regional Forester, filed via mail or express delivery to 333 Broadway Blvd. SE, Albuquerque, NM 87102; by facsimile to FAX: (505) 842-3800; by email to objections-southwestern-regional-office@usda.gov. An automated response will confirm the electronic objection has been received. The email subject or fax coversheet must include a subject line with “Fossil Creek Comprehensive River Management Plan Objection” or “Fossil Creek CRMP FEIS” and should specify the number of pages being submitted. If an automated response is not received, it is the sender's responsibility to ensure timely filing by other means. Electronic objections must be submitted in MS Word, Word Perfect, portable document format (PDF), or rich text format (RTF).

FOR FURTHER INFORMATION CONTACT: Project Leader, Mike Dechter, mike.dechter@usda.gov, by phone at 928-527-3416. For media inquiries or to leave a message about the project, please contact Brady Smith via email at brady.smith@usda.gov or leave a voicemail at 928-527-3490.

Individuals who use telecommunication devices for the deaf (TDD) may call the Federal Information Relay Service (FIRS) at 1-800-877-8339 between 8 a.m. and 8 p.m., Eastern Time, Monday through Friday.

SUPPLEMENTARY INFORMATION: This proposed CRMP is subject to the objection process pursuant to 36 CFR 218 Subparts A and B, and the Forest Plan amendments are subject to the objection process pursuant to 36 CFR 219 Subparts A and B. Objections to the Fossil Creek Comprehensive River Management Plan or to the Forest Plan amendments will only be accepted from those who have previously submitted timely comments regarding these planning efforts during any designated opportunity for public comment, unless based on information not available during an earlier designated opportunity for public comment (i.e., new information).

Both objection processes under 36 CFR 218 and 36 CFR 219 Subpart B provide an opportunity for members of the public who have participated in the planning process for the Fossil Creek Wild and Scenic River Comprehensive River Management Plan to have any unresolved concerns reviewed by the Forest Service prior to a final decision by the Responsible Officials.

It is the responsibility of the objector to ensure that the reviewing officer receives the objection in a timely manner. The regulations prohibit extending the length of the objection filing period. Please reference regulatory requirements for objecting at the link provided above, under dates.

Responsible Officials

The responsible officials who will approve the record of decision for the Fossil Creek Wild and Scenic River CRMP are Laura Jo West, Forest Supervisor for the Coconino National Forest and Neil Bosworth, Forest Supervisor of the Tonto National Forest.

The Regional Forester is the reviewing officer for all decisions related to the CRMP and its associated activities and the plan amendment since the Forest Supervisors are the deciding officials (36 CFR 219.56(e)(2)).

Jennifer Eberlien,
Associate Deputy Chief, National Forest System.

[FR Doc. 2020-26687 Filed 12-3-20; 8:45 am]

BILLING CODE 3411-15-P